COMMISSION ON CIVIL RIGHTS

Agenda and Notice of Public Meeting of the North Dakota Advisory Committee

Notice is hereby given, pursuant to the provisions of the rules and regulations of the U.S. Commission on Civil Rights, that a meeting of the North Dakota Advisory Committee to the Commission will convene at 1:00 p.m. and adjourn at 4:00 p.m. on Thursday, December 7, 2000, at the Radisson, 201 5th Street North, Fargo, North Dakota 58102. The purpose of the meeting is to review recent local and statewide developments regarding civil rights issues/enforcement and to discuss the impact of the Committee report, “Civil Rights Enforcement Issues in North Dakota.”

Persons desiring additional information, or planning a presentation to the Committee, should contact John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, November 15, 2000.
Edward A. Hailes, Jr.,
Acting General Counsel.

[FR Doc. 00-29869 Filed 11-21-00; 8:45 am]

BILLING CODE 6335-01-P